DEPARTMENT OF DEFENSE

Office of the Secretary

[Docket ID: DoD-2008-OS-0045]

Submission for OMB Review; Comment Request

AGENCY: Office of the Under Secretary of Defense for Acquisition, Technology, and Logistics, DoD.

ACTION: Notice.

In compliance with Section 3506(c)(2)(A) of the Paperwork Reduction Act of 1995, the Office of the Deputy Under Secretary of Defense for Industrial Policy (ODUSD(IP)) announces a proposed information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 7, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection, please write to the Office of the Deputy Under Secretary of Defense for Industrial Policy, 241 18th Street South, Crystal Square 4, Suite 501, ATTN: Dawn Vehmeier, Arlington, VA 22202, or e-mail us at Industrial_Policy@osd.mil.

Title, Associated Form, and OMB Number: Foreign Sourcing for Defense Applications; OMB Number 0704-0419.

Needs and Uses: The Deputy Under Secretary of Defense (Industrial Policy) has been assigned responsibility to determine the extent of foreign sourcing and any relevant impact to on-going programs producing precision munitions, consumables and selected high interest force protection programs.

Affected Public: Business or other for profit.

Number of Respondents: 500.

Responses Per Respondent: 1.

Annual Responses: 500.

Average Burden Per Response: 5 hours.

Annual Burden Hours: 2,500.

Frequency: On occasion.

Respondent's Obligation: Voluntary.

SUPPLEMENTARY INFORMATION:

Summary of Information Collection

Specifically, ODUSD(IP) will evaluate the: (1) Extent of foreign sourcing within a sampling of operationally-important products; (2) impact of foreign sourcing on military readiness; and (3) extent to which DoD actions encourage or discourage use of foreign sources. To ensure that it addresses emerging foreign sourcing issues, the Department of Defense (DoD) will collect information from prime contractors and first and second tier subcontractors.

Dated: May 1, 2008.
Patricia L. Toppings,
OSD Federal Register Liaison Officer, Department of Defense.

[FR Doc. E8-10073 Filed 5-6-08; 8:45 am]

BILLING CODE 5001-06-P